DEPARTMENT OF HEALTH AND HUMAN SERVICES

Centers for Disease Control and Prevention

[30Day-17-17ND]

Agency Forms Undergoing Paperwork Reduction Act Review—Evaluation of the National Tobacco Prevention and Control Public Education Campaign; Correction

AGENCY: Centers for Disease Control and Prevention (CDC), Department of Health and Human Services (HHS).

ACTION: Notice; correction.

SUMMARY: The Centers for Disease Control and Prevention (CDC) published a document in the Federal Register on October 13, 2017, concerning request for comments on Agency Forms Undergoing Paperwork Reduction Act Review—Annual Progress Report (APR) for Injury Control Research Centers (ICRC). The document provided the incorrect proposed project title, number of annual reporting responses for each respondent and average burden per response estimate.

FOR FURTHER INFORMATION CONTACT: Leroy Richardson, 1600 Clifton Road, MS D-74, Atlanta, GA 30333; telephone (404) 639-4965; email: omb@cdc.gov.

Correction

In the Federal Register of October 13, 2017, in FR Doc. 2017-22197, on page 47746, in the second column (first heading), correct the proposed project type to read:

Progress Report for Injury Control Research Centers (ICRC)—New—National Center for Injury Prevention and Control (NCIPC), Centers for Disease Control and Prevention (CDC).

CDC also requests the correction of the following: On page 47746, in the third column (second paragraph), correct the second sentence as follows: ICRC awardees will report activity information to CDC twice per year using three fillable electronic templates.

Also on page 47746 (third column and last paragraph), correct the paragraph to read as follows: Submission of the Annual Progress Report information is required for cooperative agreement grantees. The Federal Register Notice published on February 10, 2017, described each grantee's total annualized burden as 50 hours, with a reporting frequency of once per year. In the information collection request submitted to OMB for review, CDC still estimates each grantee's total annualized burden at 50 hours, but CDC will distribute burden over two reports per year. CDC has made the appropriate adjustments in the estimated burden per response and number of responses per respondent. The total estimated annualized burden hours are 500. There is no cost to respondents other than their time.

Finally, on page 47747, correct the table for the Estimated Annualized Burden Hours as follows:

Type of respondents | Form name | Number of respondents | Number of responses per respondent | Average burden per response (in hours)
Injury Control Research Center (ICRC) Grantees | ICRC Indicators Data Collection | 10 | 2 | 10
| ICRC Indicators Data Collection: Non-CDC Study Supplement | 10 | 2 | 5
| ICRC Personnel and Publication Excel Data Collection | 10 | 2 | 10

Dated: October 17, 2017.
Leroy A. Richardson,
Chief, Information Collection Review Office, Office of Scientific Integrity, Office of the Associate Director for Science, Office of the Director, Centers for Disease Control and Prevention.

[FR Doc. 2017-22893 Filed 10-20-17; 8:45 am]

BILLING CODE 4163-18-P